OFFICE OF MANAGEMENT AND BUDGET

DEPARTMENT OF COMMERCE

Bureau of the Census

[Docket No.: 090302265-9268-01]

Office of Information and Regulatory Affairs; Procedures for Participating in the Appeals Process for the 2010 Decennial Census Local Update of Census Addresses (LUCA) Program

AGENCIES: Office of Information and Regulatory Affairs, Office of Management and Budget; and Bureau of the Census, Department of Commerce.

ACTION: Notice and request for comments.

SUMMARY: As part of implementing the Census Address List Improvement Act of 1994, the Office of Management and Budget (OMB) and the Bureau of the Census (Census Bureau) request public comment on the Appeals Process whereby Tribal, State, and local governments participating in the 2010 Decennial Census Local Update of Census Addresses (LUCA) Program may appeal determinations made by the Census Bureau with respect to their suggested changes to the 2010 Census Address List. For information purposes, this notice also describes the LUCA Feedback materials that the Census Bureau will provide to participating governments and how those governments can use the materials as the basis for an appeal.

Electronic Availability: This notice is available on the Internet from the OMB Web site at http://www.whitehouse.gov/omb/fedreg_default/.

DATES: To ensure consideration during the decision-making process, OMB must receive all comments in writing on or before April 30, 2009.

ADDRESSES: Comments concerning the proposed appeals procedure may be submitted though one of the following methods:

• Fax: Comments may be faxed to Katherine K. Wallman, Chief Statistician, Office of Management and Budget, fax number (202) 395-7245.

• E-mail: Comments may be sent to 2010AppealsProcess@omb.eop.gov, with the subject 2010 Appeals Process.

• Federal eRulemaking Portal: http://www.Regulations.gov. Simply type “LUCA Program” (in quotes) in the Comment or Submission search box, click Go, and follow the instructions for submitting comments.

Correspondence about the 2010 Census LUCA Program in general should be sent to Arnold A. Jackson, Associate Director for Decennial Census, U.S. Census Bureau, Washington, DC 20233, telephone (301) 763-8626, fax number (301) 763-8867, e-mail Arnold.A.Jackson@census.gov.

Because of delays in the receipt of regular mail due to security screening, you are encouraged to use electronic communications to transmit your comments in order to ensure timely receipt. All comments with the subject of “2010 Appeals Process” received by the date specified above will be included as part of the official record, and made available to the public on http://www.Regulations.gov and on OMB's Web site. For this reason, please do not include in your comments any information of a confidential nature, such as sensitive personal information or proprietary information.

FOR FURTHER INFORMATION CONTACT: For information about the proposed Appeals Process, contact Suzann Evinger, Office of Management and Budget, 10201 New Executive Office Building, Washington, DC 20503, telephone (202) 395-7315; fax number (202) 395-7245. For information about the Census Bureau's 2010 Census LUCA Program, contact Timothy F. Trainor, Chief, Geography Division, U.S. Census Bureau, Washington, DC 20233-7400, telephone (301) 763-2131; fax (301) 763-4710.

SUPPLEMENTARY INFORMATION: The Office of Management and Budget (OMB), in consultation with the Bureau of the Census (Census Bureau), publishes this notice to seek comments on the proposed procedures for the 2010 Decennial Census Local Update of Census Addresses (LUCA) Appeals Process. The Appeals Process allows Tribal, State, and local governments participating in the 2010 Decennial Census Local Update of Census Addresses (LUCA) Program to appeal determinations made by the Census Bureau with respect to their suggested changes to the 2010 Census Address List.

The Census Address List Improvement Act of 1994

The Census Address List Improvement Act of 1994 (Pub. L. 103-430, 108 Stat 4393 (1994)) mandates the establishment of a program to be used by the Census Bureau for developing the decennial census address list and address lists for other censuses and surveys conducted by the Bureau. The Act's provisions direct the Secretary of Commerce to: (1) Publish standards defining the content and structure of address information that Tribal, State, and local governments may submit to be used for developing a national address list; (2) develop and publish a timetable for the Census Bureau to receive, review, and respond to submissions; and (3) provide a response to the submissions regarding the Census Bureau's determination for each address. The Act provides further that OMB's Administrator of the Office of Information and Regulatory Affairs, acting through the Chief Statistician and in consultation with the Census Bureau, shall develop a process for Tribal, State, and local governments to appeal determinations of the Census Bureau. The Act also directs the U.S. Postal Service to provide the Secretary of Commerce with address information, as appropriate, for use by the Census Bureau.

The Act authorizes the Census Bureau to provide designated officials of Tribal, State, and local governments with access to census addresses information. Prior to the 2000 Census, the Census Bureau was limited to providing block summary totals of addresses to Tribal and local governments. The 2000 Census marked the first decennial census where Tribal and local governments were able to review the census address list.

The OMB Office of Information and Regulatory Affairs Administrator's Proposed 2010 LUCA Appeals Process

To ensure that Tribal, State, and local governments participating in the2010 Decennial Census LUCA Program have a means to appeal the Census Bureau's determinations, the Census Address List Improvement Act of 1994 requires that the Administrator of OMB's Office of Information and Regulatory Affairs, acting through the Chief Statistician and in consultation with the Census Bureau, develop an appeals process to resolve any disagreements that may remain after participating governments receive the Census Bureau's LUCA Feedback materials. This section describes the proposed procedures for that Appeals Process on which comments are now being sought. For reference purposes only, the section below entitled “The Census Bureau's 2010 Decennial Census LUCA Program” describes the already-completed phase of the program. Also for reference purposes only, the Appeals Process that was used for the 2000 Census is described in the Federal Register notice published on June 30, 1999 (64 FR 35548).

A. Overview of the Appeals Process

Governmental jurisdictions that participated in LUCA Option 1 or LUCA Option 2 and completed a review of 2010 Census LUCA materials may file an Appeal if they meet the eligibility criteria. Jurisdictions that participated in LUCA Option 3 are not eligible to appeal. Appeals must be filed within 30 calendar days from the date the participant receives its LUCA Feedback materials. Appeals filed after the deadline will be denied as untimely. When filing an appeal, eligible participants must include supporting documentation that substantiates the existence and location of each appealed address. Eligible participants may file an Appeal with the 2010 Decennial Census LUCA Appeals Staff, a temporary Federal entity set up to administer the Appeals Process, and must also submit a duplicate copy of the Appeal to the Census Bureau's Regional Census Center responsible for that governmental jurisdiction. After notification by the Appeals Staff that an eligible participant has appealed, the Census Bureau will have 15 calendar days to respond to the Appeal. Appeal decisions will be based solely on a review of written documentation provided to the Appeals Staff by the eligible government and the Census Bureau. The decision of the Appeals Staff will be final. The Appeals Staff is scheduled to conclude its review of appeal submissions by March 31, 2010. Specific eligibility criteria and detailed requirements for Appeal submissions are provided below.

B. Appeal Procedures for Option 1—Title 13 Full Address List Review LUCA Program Participants

1. Eligibility Criteria for Filing an Appeal

Option 1 participating governments are eligible to file an appeal if they (1) returned additions to or corrections of the 2010 Decennial Census Address List, or (2) challenged the count of addresses in one or more census blocks on the 2010 Decennial Census Address Count List after their LUCA review, or (3) certified to the Census Bureau after their LUCA review that the 2010 Decennial Census Address List was correct and required no update.

Eligible Option 1 participating governments may appeal (1) address additions and corrections they provided after their initial review of the 2010 Census Address List that the Census Bureau did not accept, (2) addresses they believe are still missing from blocks whose address count they challenged during their LUCA review of the Address Count List, and (3) addresses that were deleted from the 2010 Decennial Census Address List by the Census Bureau during the Address Canvassing Operation that were not commented on by participants during their initial LUCA review.

When filing an Appeal, eligible LUCA Program participants must provide (1) contact information for the governmental jurisdiction filing the Appeal, (2) address information for each address being appealed, and (3) supporting documentation that substantiates the existence and/or location of each address being appealed as specified below.

2. Contact Information

Eligible participants must provide the following contact information for the governmental jurisdiction filing the Appeal:

a. Name of the governmental jurisdiction, and

b. Name, mailing address, telephone number, fax number, and electronic mail address (if any) of that jurisdiction's contact person for the Appeal.

3. Address Information

a. Eligible participants must provide the following six items of information to appeal the Census Bureau's rejection of the submission of a new address to be added to, or a correction to an existing address on, the Census Address List (as evidenced by the Census Bureau's final determination code for that address on the Detailed Feedback Address List),

or

to appeal the Census Bureau's deletion of an address during the Address Canvassing Operation that was not previously commented on by the participant during its initial LUCA review (as indicated for that address on the Detailed Feedback Address List):

(1) Complete address (including the house number, unit designator if applicable, street name, street direction, street type, post office name, and ZIP Code) or if there is no address a location description of the housing unit or other living quarters.

(2) Control ID number.

(3) Census Tract number.

(4) Census Block number.

(5) Participant submitted action code.

(6) Census Bureau's Processing Code.

Eligible participants must provide information for each appealed address on a computer-readable form or on paper. Technical requirements for the format of address information will be included with the feedback materials the participant receives from the Census Bureau.

b. To appeal the omission of addresses the eligible participant believes are still missing from blocks whose address counts the participant challenged previously during its initial LUCA review (as evidenced by the revised address counts for those blocks on the Detailed Feedback Address Count Challenge List), provide the following items of information for each missing address:

(1) Complete address (including the house number, unit designator if applicable, street name, street direction, street type, post office name, and ZIP Code) or if there is no address a location description of the housing unit or other living quarters.

(2) Census Tract number from the map or shapefile.

(3) Census Block number from the map or shapefile.

4. Supporting Documentation

Eligible participants must provide supporting documentation for each appealed address as specified below in section E, “Supporting Documentation an Eligible Government Must File with an Appeal.”

C. Appeal Procedures for Option 2—Title 13 Local Address List Submission LUCA Program Participants

1. Eligibility Criteria for Filing an Appeal

Option 2 participants are eligible to file an appeal if they: (1) Returned their local city-style address list, or (2) certified to the Census Bureau after their LUCA review that the 2010 Census Address List was correct and required no update. Option 2 participants may appeal: (1) The Census Bureau's rejection of the existence or location of an address they submitted for inclusion in the 2010 Census Address List (as evidenced for that address by the Census Bureau's processing code Detailed Feedback List) and (2) the Census Bureau's deletion of an address from the 2010 Census Address List during the Address Canvassing Operation (as indicated for that address on the Detailed Feedback Address List).

When filing an Appeal, jurisdictions must provide: (1) Contact information for the jurisdiction, (2) address information for each address being appealed, and (3) supporting documentation that substantiates the existence and/or location of each address being appealed as specified below.

2. Contact Information

Eligible participants must provide the following contact information for the governmental jurisdiction filing the Appeal:

a. Name of the eligible jurisdiction, and

b. Name, mailing address, telephone number, fax number, and electronic mail address (if any) of that jurisdiction's contact person for the Appeal.

3. Address Information

Eligible participants must provide the following information for each address that is being appealed. Address information may be submitted in computer-readable form or on paper. Technical requirements for the format of address information will be included with the feedback materials the participant receives from the Census Bureau.

a. Complete address (including the house number, unit designator if applicable, street name, street direction, street type, and ZIP Code) or a location description of the housing unit or other living quarters.

b. Control ID number.

c. Census Tract number from the map or shapefile.

d. Census Block number from the map or shapefile.

e. Census Bureau's Processing Code.

4. Supporting Documentation

Eligible participants must provide supporting documentation for each appealed address as specified below in section E, “Supporting Documentation an Eligible Government Must File with an Appeal.”

D. Appeal Procedures for Option 3—Non-Title 13 Local Address List Submission LUCA Participants

Option 3 participants are not eligible to file an Appeal because these participants do not receive the detailed address level feedback materials required as the basis for an appeal.

E. Supporting Documentation That Must be Filed With an Appeal

The appeals decisions will be based solely on a review of written documentation provided by the eligible participating government and the Census Bureau. Eligible participating governments must submit the following supporting documentation with their Appeals:

1. A written explanation that gives the eligible participating government's specific recommendations for how each address and location being appealed should appear on the 2010 Decennial Census Address List.

2. A written statement that outlines the eligible participating government's position for why the Appeals Staff should adopt its recommendations. The statement must specifically respond to the explanation that accompanied the Census Bureau's LUCA Feedback materials.

3. For each address (or group of addresses), supporting documentary evidence, including a reference to the exact location on the supporting documentation where the Appeals Staff can find specific evidence, supporting the eligible government's position with respect to the existence or correctness of that address. Useful types of supporting evidence include:

a. Documentation of on-site inspection and/or interview of residents and/or neighbors.

b. Issuance of recent occupancy permit for unit. (Building permits are not acceptable, as they do not ensure that the units have been built and/or are occupied.)

c. Provision of utilities (electricity, gas, sewer, water, telephone, etc.) to the residence. The utility record should show that this is not a service to a commercial unit, or an additional service to an existing residence (such as a second telephone line).

d. Provision of other governmental services (housing assistance, welfare, etc.) to residents of the unit.

e. Photography, including aerial photography.

f. Land use maps.

g. Local 911 emergency lists, if they distinguish residential from commercial units.

h. Tax assessment records, if they distinguish residential from commercial units.

4. Evidence that demonstrates the quality of address or map reference sources provided as supporting evidence such as:

a. Date of the address source.

b. How often the address source is updated.

c. Methods used to update the source.

d. Quality assurance procedure(s) used in maintaining the address source.

e. How the address source is used by the eligible government and/or by the originator of the source.

All Appeal documentation must be filed with the Appeals Staff within 30 calendar days after the eligible participating government's receipt of its LUCA Feedback materials. At the same time it files its Appeal, the eligible government must send a duplicate copy of its Appeal, including all supporting documentation, to the Census Bureau's Regional Census Center responsible for that jurisdiction. The eligible jurisdiction may not submit any materials to the Appeals Staff after the 30-day period has elapsed.

F. Deadline To File Appeals

Appeals must be filed by the eligible participating government within 30 calendar days after that government's receipt of the LUCA Feedback materials. “Receipt” as used herein is defined as the delivery date reported to the Census Bureau by the delivery service that transmits the feedback materials to the eligible participating government. In order to safeguard the confidential address materials covered by Title 13, the transmitting of an Appeal to the 2010 Decennial Census LUCA Appeals Staff must adhere to the Census Bureau's specific guidelines for shipping materials. The guidelines will be supplied with the feedback materials. The guidelines specifically prohibit the use of e-mail or fax as secure modes of transmitting confidential materials. The eligible participating government should transmit its appeal materials to the Appeals Staff via regular or Express Mail or overnight delivery service, and must keep a record of the date it transmits these materials. The “filing date” for the Appeals shall be the date the Appeal is postmarked or the date it is shipped by the delivery service. All Appeals filed after the deadline will be denied as untimely.

G. Where To File an Appeal

Appeals must be sent to the 2010 Decennial Census LUCA Appeals Staff, the address for which will be supplied with the feedback materials. At the same time, a duplicate copy of all Appeal documentation must be sent to the Census Bureau's Regional Census Center responsible for the jurisdiction. Upon receipt of an Appeal, the LUCA Appeals Staff will send a confirmation to the eligible jurisdiction that its Appeal has been received. The Appeals Staff also will notify the Census Bureau that the Appeal has been filed.

H. Documentation and Supporting Evidence That May Be Submitted by the Census Bureau During the Appeals Process

The Census Bureau is not required to respond to the Appeal or to provide any materials in support of its determination. Upon receipt of notification that an Appeal has been filed, the Census Bureau will have 15 calendar days in which it may (if the Census Bureau so chooses):

1. Submit to the LUCA Appeals Staff written documentation briefly summarizing its position, as well as any supporting evidence concerning the appealed addresses,

or

2. Submit to the Appeals Staff a written statement agreeing to the recommendation(s) in the Appeal.

If the Census Bureau submits any written documentation to the Appeals Staff to support its position, the Census Bureau at the same time must send a copy of its submission to the eligible participating government. The Census Bureau may not submit any materials to the Appeals Staff after the 15-day period has elapsed.

I. The Appeals Review and Final Decision Process

The Appeals Process will be administered by the 2010 Decennial Census LUCA Appeals Staff, a temporary Federal entity. The Appeals Staff will include Appeals Officers, who are trained in the procedures for processing an Appeal and in the examination and analysis of address list information, locations of addresses and housing units, and supporting materials.

For each Appeal, an Appeals Officer will review the Census Bureau's feedback materials and the written documentation and supporting evidence submitted by the eligible government and the Census Bureau. No testimony or oral argument will be received by the Appeals Officer. Appeals Officers will apply the following principles in conducting their review:

1. The Appeals Officer shall consider the quality of the map or address reference source as the basis for determining the validity of an address (or group of addresses) and its (their) location(s).

2. For any address for which the Appeals Officer determines that the quality of the supporting evidence submitted by both parties is of equal weight, the Appeals Officer shall decide in favor of the eligible government.

At the conclusion of the review of an appealed address (or group of addresses), the Appeals Officer will prepare a draft written determination. The draft written determination will be reviewed by a higher-level official on the Appeals Staff. The Director of the Appeals Staff (or his or her designee) will then issue a final written determination to both the eligible government and the Census Bureau. The final written determination will include a brief explanation of the Appeals Staff's decision, and will specify how the appealed address(es) or its (their) location(s) should appear on the 2010 Decennial Census Address List. Each final written determination shall become part of the administrative record of the Appeals Process.

The Appeals Staff's decision is final. The Census Bureau will include on the 2010 Decennial Census Address List used for subsequent census operations all addresses added to, or corrected in, the 2010 Census Address List as a result of the Appeals Process, and attempt to locate and enumerate them. Inclusion of an address on the list does not mean that a living quarters with that address exists or that the address will be included in the final 2010 data summaries. The census-taking process will determine the inclusion status of the address—whether or not it is actually a housing unit—and the final population and housing unit status for each address.

J. Completion of the Appeals Process

Appeals reviews will be completed and written determinations issued to the concerned parties as soon as possible. The Census Address List Improvement Act of 1994 (Pub. L. 103-430, 108 Stat 4393 (1994)) requires that all appeals be resolved before the decennial census date (April 1, 2010).

The Census Bureau's 2010 Decennial Census LUCA Program

The Census Bureau and OMB provide below a copy of the procedures for participation in the 2010 Decennial Census LUCA Program. Comments are not being accepted on the program provisions, which were offered for public comment previously. This information is being provided below for reference purposes only. Please see the notice published in the Federal Register on March 7, 2008 (73 FR 12369) for more information on the program.

For the 2010 LUCA Program, participating governmental jurisdictions chose one of three participation options for reviewing the census address list and/or submitting their own local residential address information to the Census Bureau. In addition, they could opt to receive materials in paper or computer-readable formats, or use Census Bureau-supplied software to update their jurisdiction's map features and address list. Jurisdictions with more than 6,000 addresses were required to participate using a computer-readable address list or the Census Bureau-supplied software. All LUCA participants were required to “geocode” (i.e., identify for an individual address its correct geographic location including the correct state, county, census tract, and census block codes) each city-style address they added or submitted. The census tract and census block numbers are displayed on the Census Bureau-supplied maps, digital shapefiles, and software tool. Additionally, all LUCA participants could make updates and corrections to the features and boundaries on the Census Bureau-supplied maps or digital shapefiles. Described below are the three options that Tribal, State, and local governments could have used to participate in the 2010 Decennial Census LUCA Program.

Option 1—Title 13 Full Address List Review

The Option 1 Full Address List Review option required that the participant sign a Confidentiality Agreement in accordance with Title 13, United States Code (U.S.C.) to maintain the confidentiality of the census address information they received from the Census Bureau for review. The Full Address List Review participants received the 2010 Decennial Census LUCA Address List, the 2010 Decennial Census LUCA Address Count List (providing a count of addresses within each census block), and census maps or digital shapefiles of their jurisdiction. Participants who selected this option were required to have the means to secure the census address list containing Title 13 information.

Although the LUCA Address List contained both city-style (e.g., house number, street name, post office name, ZIP Code) and noncity-style (e.g., rural route/box number, post office box, general delivery, location description) addresses, participants could only add and/or provide updates to city-style addresses. In addition, Option 1 participants could challenge the address count for any census block on their LUCA Address Count List. If the entire governmental jurisdiction contained only noncity-style addresses, Option 1 was the only LUCA Program option the jurisdiction could choose. Participants with both city-style and noncity-style addresses could not provide updates for individual addresses on the LUCA Address List and challenge the count of addresses on the LUCA Address Count List within the same census block.

Option 2—Title 13 Local Address List Submission

The Option 2 Title 13 Local Address List Submission option required that the participants sign a Confidentiality Agreement in accordance with Title 13, U.S.C., to maintain the confidentiality of the census address information they received from the Census Bureau. This was a new LUCA option for the 2010 Census intended for those participants who did not have the time or resources to update the 2010 Decennial Census LUCA Address List, but wished to submit their local residential address list for Census Bureau use. Participants who selected this option were required to have the means to secure the census address list containing Title 13 information.

Although Option 2 participants received both the LUCA Address List containing residential city-style and noncity-style addresses and the LUCA Address Count List, these materials could only be used for reference purposes. Option 2 LUCA participants were required to submit their local city-style address list in a Census Bureau-defined computer-readable format. The Census Bureau did not accept Option 2 LUCA participants' local address lists in paper format and did not accept local address lists containing noncity-style addresses.

Option 3—Non-Title 13 Local Address List Submission

The Option 3 Non-Title 13 Local Address List Submission option was also a new LUCA option for the 2010 Census. Under Option 3, participants could choose not to receive and review the 2010 Decennial Census LUCA Address List for their jurisdiction, and not to be required to sign a Confidentiality Agreement. Instead, the participants received the 2010 Decennial Census LUCA Address Count List in computer-readable format for reference purposes only. Option 3 LUCA participants were required to submit their local city-style address list in a Census Bureau-defined computer-readable format. The Census Bureau did not accept Option 3 LUCA participants' local address lists in paper format and did not accept local address lists containing noncity-style addresses.

The Census Bureau's 2010 Decennial Census Address Canvassing Operation

The Census Bureau will conduct a nationwide field check called the Address Canvassing Operation to verify the census address list, including the qualifying updates supplied by 2010 Census LUCA participants. The operation will begin in March of 2009. During this operation, Census Bureau field staff will add, delete, and correct entries on the Census Address List and make needed corrections to census maps. The Census Bureau's feedback to LUCA Program participants, conveying the Census Bureau's determinations on their submissions of additions and updates to census address information, will be based on the results of Address Canvassing.

The 2010 Decennial Census LUCA Feedback Materials

The Census Bureau will provide 2010 LUCA Feedback materials to qualifying governmental jurisdictions on a flow basis starting in October 2009, and ending in December 2009. The majority of LUCA Program participants will receive their feedback materials in the same media format that they requested for the initial 2010 Census LUCA review materials. Although the initial LUCA review materials stated that the Census Bureau would provide structure coordinates (map spots) for the feedback phase of the program, the Census Bureau will not provide them for housing units collected during the 2009 Address Canvassing Operation due to schedule changes that have delayed the timing of coordinate processing.

The Census Bureau will provide the LUCA Feedback materials after completing the following steps:

(1) For jurisdictions that submitted address updates to the 2010 Decennial Census LUCA Address List or submitted their local address list, the Census Bureau will review and apply each correctly submitted participant address update to its address list, adding any new addresses not already on its list.

(2) The Census Bureau will conduct the Address Canvassing Operation and in the course of doing so will verify the participant suggested address updates (additions, corrections, deletions, etc.). The Address Canvassing Operation will ensure that all address updates and additions exist and that they are in the correct census block.

Potential group quarters (GQs) addresses are identified as “other living quarters” (OLQs) for the feedback phase of the LUCA Program. Addresses identified in the Address Canvassing operation as potentially being GQs are later classified as group quarters, housing units, or nonresidential during a separate Census Bureau operation, the Group Quarters Validation (GQV), scheduled for October 2009.

Described below are the 2010 Census LUCA Feedback materials that LUCA Program participants will receive under each of the three participation options.

LUCA Feedback for Option 1—Title 13 Full Address List Review Participants

The Census Bureau will provide 2010 Census LUCA Feedback materials to Option 1 Tribal, State, or local governments that took any of the following actions:

(1) Submitted updates (i.e., additions, corrections, deletions) to city-style addresses on the 2010 Census LUCA Address List.

(2) Challenged the housing unit address count and/or group quarters address count for one or more census blocks on the 2010 Census LUCA Address Count List.

(3) Updated the Census Bureau maps.

(4) Certified to the Census Bureau at the end of their LUCA review that the 2010 Census LUCA Address List was correct and needed no update.

The 2010 Census LUCA Feedback materials that the Census Bureau will provide to each Option 1 participating government will document which local address additions and updates the Census Bureau accepted or did not accept. The 2010 Census LUCA Feedback materials include:

(1) A Full Address List that contains all of the residential addresses currently recorded in the Census Address List within the participant's jurisdiction. This address list will reflect the results of the jurisdiction's participation in the 2010 Census LUCA Program, the Address Canvassing Operation, and updates from other sources.

(2) A Detailed Feedback Address List that shows each address record addition and update submitted by the participant and a processing code that identifies a specific action taken by the Census Bureau on that address record. The Detailed Feedback Address List will also identify addresses deleted in the Address Canvassing Operation.

(3) A Full Address Count List that shows the current residential address counts, including those for housing units and other living quarters, for each census block within the participant's jurisdiction.

(4) A Detailed Feedback Address Count Challenge List that shows address counts only for those census blocks challenged by the participant.

Note: On the Detailed Feedback Address List and the Detailed Feedback Address Count Challenge List, addresses will be reported only with 4-digit basic block numbers instead of any suffixed block numbers that may appear on the other feedback materials. These block numbers will not be suffixed.

(5) A Feedback Address Update Summary Report that displays the tallies of actions taken by the Census Bureau for all of the address updates submitted by the participant.

(6) Feedback maps may include feature updates provided by the participant and/or other updates found by the Census Bureau during the Address Canvassing Operation. Boundary updates from the 2009 Boundary and Annexation Survey submitted after March 1, 2009, may not be reflected.

Note: The 4-digit block number on the Full Address List, Full Address Count List, and Feedback maps will be identical to those appearing on the initial LUCA review materials. However, the suffixes associated with the 4-digit basic block numbers may have no correlation to the suffixes on the initial review materials.

LUCA Feedback for Option 2—Title 13 Local Address List Submission Participants

The Census Bureau will provide 2010 Census LUCA Feedback materials to Option 2 Tribal, State, or local governments that took any of the following actions:

(1) Submitted their local city-style address list.

(2) Updated the Census Bureau maps.

(3) Certified to the Census Bureau at the end of their LUCA review that the 2010 Census Address List was correct and a local address list submission was not needed.

The 2010 Census LUCA Feedback materials that the Census Bureau will provide to each Option 2 participating government will document which local address submissions the Census Bureau accepted or did not accept. The 2010 LUCA Feedback materials include:

(1) A Full Address List that contains all of the residential addresses for those housing units and other living quarters currently recorded in the Census Address File within the participant's jurisdiction. This address list will reflect the results of the jurisdiction's participation in the 2010 Census LUCA Program, the Address Canvassing Operation, and other sources.

(2) A Detailed Feedback Address List that shows each address record submitted by the participant and a processing code that identifies a specific action taken by the Census Bureau on that address record. The Detailed Feedback Address List will also identify addresses deleted in the Address Canvassing Operation.

Note: On the Detailed Feedback Address List, addresses will be reported only with 4-digit basic block numbers instead of any suffixed block numbers that may appear on the other feedback materials. These block numbers will not be suffixed.

(3) A Full Address Count List that shows the current residential address counts, including those for housing units and other living quarters, for each census block within the participant's jurisdiction.

(4) A Feedback Address Update Summary Report that displays the tallies of actions taken by the Census Bureau for all of the addresses submitted by the participant.

(5) Feedback Maps may include feature updates provided by the participant and/or other updates found by the Census Bureau during the Address Canvassing Operation. Boundary updates from the 2009 Boundary and Annexation Survey submitted after March 1, 2009, may not be reflected.

Note: The 4-digit block number on the Full Address List, Full Address Count List, and Feedback maps will be identical to those appearing on the initial LUCA review materials. However, the suffixes associated with the 4-digit basic block numbers may have no correlation to the suffixes on the initial review materials.

The 2010 LUCA Feedback for Option 2 participants does not include a Detailed Feedback Address Count Challenge List.

LUCA Feedback for Option 3—Non-Title 13 Local Address List Submission Participants

The Census Bureau will provide 2010 Census LUCA Feedback materials to Option 3 Tribal, State, or local governments that took any of the following actions:

(1) Submitted their local city-style address list.

(2) Updated the Census Bureau maps.

(3) Certified to the Census Bureau at the end of their LUCA review that the 2010 Census Address Count List was correct and a local address list submission was not needed.

The 2010 Census LUCA Feedback materials that the Census Bureau will provide to each Option 3 participating government include:

(1) Feedback Maps that may include feature updates provided by the participant and/or other updates found by the Census Bureau during the Address Canvassing Operation.

(2) A Feedback Address Summary Report.

Note: The 4-digit block number on the Feedback maps will be identical to those appearing on the initial LUCA review materials. However, the suffixes associated with the 4-digit basic block numbers may have no correlation to the suffixes on the initial review materials.

The LUCA Feedback for Option 3 participants does not include a Full Address List, Detailed Feedback Address List, a Detailed Feedback Address Count Challenge List, or a Full Address Count List.

Participants under all three options that submitted map updates only without certifying that their address lists were correct will only receive maps/shapefiles as feedback.

Executive Order 12866

This notice has been determined to be not significant under Executive Order 12866.

Paperwork Reduction Act

Notwithstanding any other provision of law, no person is required to respond to, nor shall a person be subject to a penalty for failure to comply with, a collection of information subject to the requirements of the Paperwork Reduction Act (PRA) unless that collection of information displays a current, valid Office of Management and Budget (OMB) control number. In accordance with the PRA, 44 U.S.C., Chapter 35, the Census Bureau requested, and OMB granted its clearance for, the information collection requirements for this program on September 5, 2008, (OMB Control Number 0607-0795, expires on March 31, 2009). The Census Bureau's request for a generic clearance covering this program until 2011 was sent to the OMB on February 3, 2009.

Kevin F. Neyland,
Acting Administrator, Office of Information and Regulatory Affairs.
Thomas L. Mesenbourg,
Acting Director, Bureau of the Census.

[FR Doc. E9-7176 Filed 3-30-09; 8:45 am]

BILLING CODE 3510-07-P